DEPARTMENT OF THE INTERIOR

Fish and Wildlife Service

[FWS-R4-ES-2009-N275; 41910-1112-0000-F2]

Endangered and Threatened Wildlife and Plants; Permits; Timber Harvest in Williamsburg County, SC

AGENCY: Fish and Wildlife Service, Interior.

ACTION: Notice of receipt of application for an incidental take permit (ITP); availability of proposed low-effect habitat conservation plan (HCP); request for comment/information.

SUMMARY: We, the Fish and Wildlife Service (Service), announce the availability of an incidental take permit (ITP) application and habitat conservation plan (HCP). Virginia H. McIntosh (applicant) requests a 5-year ITP under the Endangered Species Act of 1973, as amended (Act). The applicant anticipates taking two red-cockaded woodpecker (Picoides borealis) (RCW) groups incidental to timber harvesting in Williamsburg County, South Carolina (project). The applicant's HCP describes the mitigation and minimization measures the applicant proposes to address the effects of the project to the RCW.

DATES: We must receive any written comments on the ITP application and HCP on or before February 16, 2010.

ADDRESSES: If you wish to review the application and HCP, you may write the Field Supervisor at our Jacksonville Field Office, 7915 Baymeadows Way, Suite 200, Jacksonville, FL 32256 or make an appointment to visit during normal business hours. If you wish to comment, you may mail or hand deliver comments to the Jacksonville Field Office, or you may e-mail comments to paula_sisson@fws.gov. For more information on reviewing documents and public comments and submitting comments, see SUPPLEMENTARY INFORMATION.

FOR FURTHER INFORMATION CONTACT: Paula Sisson, Fish and Wildlife Biologist, Jacksonville Field Office (see ADDRESSES); telephone: 904/731-3134.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Please reference permit number TE236127-0 for the applicant for all requests or comments. If you do not receive a confirmation from us that we have received your e-mail message, contact us directly at the telephone number listed under FOR FURTHER INFORMATION CONTACT.

Background

The RCW is a territorial, nonmigratory species. It is the only North American woodpecker to excavate roost and nest cavities in living pine trees. This species' use of live pines may have evolved in response to living in a fire-maintained ecosystem where frequent fires, primarily in the growing season, eliminated most standing dead pines (snags).

The RCW has declined primarily due to conversion of mature pine forests to young pine plantations, agricultural fields, and residential and commercial development, and also because of hardwood encroachment in existing pine forests due to fire suppression. Presently, the largest known populations occur on federally owned lands such as military installations and national forests.

Applicant's Proposal

The applicant is requesting take of two groups of RCWs incidental to the project. The 286-acre (ac) project is located on SC County Road 158, 9.8 miles northwest of the Town of Kingstree, Williamsburg County, South Carolina. The proposed project includes the harvest of 73.8 ac of long leaf pine flatwoods mixed with isolated pond pine wetlands, pine flatwoods, and agricultural fields, which are currently the only remaining foraging habitat for the two groups of RCWs. The applicant proposes to mitigate for the take of the two groups by establishing two new groups at Brookgreen Gardens (Brookgreen), Georgetown County, South Carolina. The applicant will translocate the two existing RCW groups from the project site to Brookgreen after cavity inserts have been installed at the new site. The translocation process will continue until the two groups have been established at Brookgreen. As minimization for impacts to the species, timber harvesting activities will not be conducted until all RCWs have been relocated to Brookgreen.

We have determined that the applicant's proposal, including the proposed mitigation and minimization measures, would have minor or negligible effects on the species covered in the HCP. Therefore, we are making a preliminary determination that the ITP is a “low-effect” project and qualifies for categorical exclusion under the National Environmental Policy Act (NEPA; 42 U.S.C. 4321 et seq.), as provided by the Department of the Interior Manual (516 DM 2 Appendix 1 and 516 DM 6 Appendix 1). We may revise this preliminary determination based on our review of public comments we receive in response to this notice. A low-effect HCP is one involving (1) Minor or negligible effects on federally listed or candidate species and their habitats, and (2) minor or negligible effects on other environmental values or resources.

We will evaluate the HCP and comments we receive to determine whether the ITP application meets the requirements of section 10(a) of the Act (16 U.S.C. 1531 et seq.). If we determine that the application meets those requirements, we will issue the ITP for incidental take of the RCW. We will also evaluate whether issuance of the section 10(a)(1)(B) ITP complies with section 7 of the Act by conducting an intra-Service section 7 consultation. We will use the results of this consultation, in combination with the above findings, in our final analysis to determine whether or not to issue the ITP.

Authority

We provide this notice under Section 10 of the Act and NEPA regulations (40 CFR 1506.6).

Dated: January 7, 2010.
David L. Hankla,
Field Supervisor, Jacksonville Field Office.

[FR Doc. 2010-577 Filed 1-13-10; 8:45 am]

BILLING CODE 4310-55-P